DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory. The Federal Advisory Committee Act (Pub. L. 92-463, 86 Stat. 770) requires that public notice of these meetings be announced in the Federal Register.

DATES: Tuesday, July 15, 2003, 8 a.m.-6 p.m., and Wednesday, July 16, 2003, 8 a.m.-5 p.m.

Public participation sessions will be held on: Tuesday, July 15, 2003, 12:15-12:30 p.m., 5:45-6 p.m., and Wednesday, July 16, 2003, 11:45-12 noon, 4-4:15 p.m.

These times are subject to change as the meeting progresses. Please check with the meeting facilitator to confirm these times.

ADDRESSES: Red Lion Hotel (formerly the West Coast Hotel), 475 River Parkway, Idaho Falls, ID 83402.

FOR FURTHER INFORMATION CONTACT: Ms. Wendy Green Lowe, Idaho National Engineering and Environmental Laboratory (INEEL) Citizens' Advisory Board (CAB) Facilitator, Jason Associates Corporation, 545 Shoup Avenue, Suite 335B, Idaho Falls, ID 83402, Phone (208) 522-1662, X3012 or visit the Board's Internet Home page at http://www.ida.net/users/cab.

SUPPLEMENTARY INFORMATION: Purpose of the Board: The purpose of the Board is to make recommendations to DOE and its regulators in the areas of future use, cleanup levels, waste disposition and cleanup priorities at the INEEL.

Tentative Agenda Topics: (Agenda topics may change up to the day of the meeting. Please contact Jason Associates for the most current agenda or visit the CAB's Internet site at http://www.ida.net/users/cab/.)

Objectives include:

• To meet with the new DOE's Idaho Operations Office (DOE-ID) Site Manager.

• To receive a status report addressing the Environmental Management Program, implementation of the Performance Management Plan for Accelerating Cleanup at the INEEL, and compliance with the Idaho Settlement Agreement.

• To receive informational presentations, participate in facilitated discussions, and/or provide recommendations addressing the end state for the INEEL, including discussion of:

—The Comprehensive Facilities and Land Use Plan and other land use planning documents addressing the INEEL.

—A review of the entire site (by Waste Area Group) describing those end states that have already been determined and identification of those that have not been determined.

—Discussion of how the public will be involved in all pending end state decisions.

• To receive a presentation addressing DOE's contracting strategy for the INEEL.

• To discuss the Long-Term Stewardship Implementation Plan.

• To discuss the Community Relations Plan for the INEEL.

• To receive a presentation addressing the selection of a small business contractor for the INEEL CERCLA Disposal Facility.

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations. This Federal Register notice is being published less than 15 days prior to the meeting date due to programmatic issues that had to be resolved prior to the meeting date.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Penny Pink, INEEL CAB Administrator, North Wind Environmental, Inc., PO Box 51174, Idaho Falls, ID 83405 or by calling (208) 528-8718.

Issued at Washington, DC on June 27, 2003.
Rachel Samuel,
Deputy Advisory Committee Management Officer.

[FR Doc. 03-16720 Filed 7-1-03; 8:45 am]

BILLING CODE 6450-01-P